SMALL BUSINESS ADMINISTRATION

[Disaster Declaration No. 10142]

Mississippi Disaster No. MS-00002

AGENCY: U.S. Small Business Administration.

ACTION: Notice.

SUMMARY: This is a notice of the Presidential declaration of a major disaster for Public Assistance Only for the State of Mississippi (FEMA-1594-DR), dated 7/10/2005.

Incident: Hurricane Dennis.

Incident Period: 7/10/2005.

DATES: Effective Date: 7/10/2005.

Physical Loan Application Deadline Date: 9/08/2005.

ADDRESSES: Submit completed loan applications to:

U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 7/10/2005, applications for Private Non-Profit organizations that provide essential services of a governmental nature may file disaster loan applications at the address listed above or other locally announced locations.

The following areas have been determined to be adversely affected by the disaster:

Primary Counties:

Attala, Calhoun, Chickasaw, Choctaw, Clarke, Clay, Covington, Forrest, George, Greene, Hancock, Harrison, Itawamba, Jackson, Jasper, Jefferson Davis, Jones, Kemper, Lamar, Lauderdale, Leake, Lee, Lowndes, Madison, Monroe, Neshoba, Newton, Noxubee, Oktibbeha, Perry, Pontotoc, Rankin, Scott, Smith, Stone, Wayne, Webster, and Winston.

The Interest Rates are:

| Percent
Other (including non-profit organizations) with credit available elsewhere | 4.750
Businesses and non-profit organizations without credit available elsewhere | 4.000

The number assigned to this disaster for physical damage is 10142.

(Catalog of Federal Domestic Assistance Number 59008)
Cheri L. Cannon,
Acting Associate Administrator for Disaster Assistance.

[FR Doc. 05-14470 Filed 7-21-05; 8:45 am]

BILLING CODE 8025-01-P